DEPARTMENT OF JUSTICE

[OMB Number 1140-0075]

Agency Information Collection Activities; Proposed eCollection eComments Requested; Revision of Previously Approved Collection; Title—Explosives Transactions Involving Limited Permittees—ATF Forms 5400.4 and 5400.30

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995. The proposed information collection was previously published in the Federal Register, volume 90 page 28813, on Tuesday, July 1, 2025, allowing a 60-day comment period.

DATES: Comments are encouraged and will be accepted for 30 days until October 9, 2025.

FOR FURTHER INFORMATION CONTACT: If you have comments especially on the estimated public burden or associated response time, suggestions, or need a copy of the proposed information collection instrument with instructions or additional information, please contact: Michael O'Lena, EIPB, either by mail at 99 New York Avenue NE, Room 6.N.518, Washington, DC 20226, by email at eipb-informationcollection@atf.gov, or telephone at (202) 648-7120.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1140-0075. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Explosives Transactions Involving Limited Permittees.

3. Agency form number, if any, and the applicable component of the Department of Justice sponsoring the collection: ATF Form 5400.4 and 5400.30.

Component: Bureau of Alcohol, Tobacco, Firearms and Explosives, U.S. Department of Justice.

4. Affected public who will be asked or required to respond, as well as a brief abstract: Affected Public: Individuals or households, Private Sector-for or not for profit institutions.

Abstract: Specific requirements for licensees and permittees to distribute explosives materials in transactions involving limited permittees, and to report lost or stolen Intrastate Purchase of Explosives Coupons. This information collection is contained in 27 CFR 555.34, 555.105, and 555.125, and 555.126. Information Collection (IC) OMB 1140-0075 is being revised to streamline the collections involving explosives limited permittees. There previously were four collections (OMB control numbers 1140-0025, 1140-0075, 1140-0077, and 1140-0079), which have been combined, simplified, and updated to remove duplicative elements, and adjusted to reflect a regulatory change currently being finalized. These changes reduced the collective burden arising from these four ICRs. This ICR now includes three collection requirements: submitting an authorized persons list, completing the Form 5400.4, Limited Permittee Transaction Report (LPTR), and reporting lost or stolen ATF Form 5400.30s, Intrastate Purchase of Explosives Coupons (IPECs). Distributors and carriers no longer have to verify the identity of the person accepting explosives delivered by common carriers, and distributors can note the identification information they do collect directly on the LPTR, thereby reducing the burden. The LPTR has also been substantially revised to reflect the streamlined information collection requirements, decreasing the amount of time for record-keeping. In addition, the number of limited permittees has decreased significantly since the previous renewal periods for the original ICRs, from 100 respondents to 13, and the number of responses has also significantly decreased. The time burden for this combined ICR has therefore decreased, due both to streamlining the combined collections and to the decrease in respondents and responses, from 1 hour per respondent or 254 hours total per year, to 25 minutes per respondent or 9.75 hours total per year.

5. Obligation to Respond: To obtain or retain a benefit.

6. Total Estimated Number of Respondents: 13 respondents.

7. Estimated Time per Respondent: 0.75 hours.

8. Frequency: Twice annually.

9. Total Estimated Annual Time Burden: 9.75 hours

10. Total Estimated Annual Other Costs Burden: $0.

If additional information is required, contact: Darwin Arceo, Department Clearance Officer, Enterprise Portfolio Management, Justice Management Division, United States Department of Justice, Two Constitution Square, 145 N Street NE, 4W-218 Washington, DC 20530.

Dated: September 5, 2025.
Darwin Arceo,
Department Clearance Officer for PRA, U.S. Department of Justice.

[FR Doc. 2025-17278 Filed 9-8-25; 8:45 am]

BILLING CODE 4410-FY-P